FEDERAL COMMUNICATIONS COMMISSION

47 CFR Part 73

[DA 05-414; MB Docket No. 02-72, RM-10399; RM-10639; and RM-10640]

Radio Broadcasting Services; East Harwich, Nantucket, and South Chatham, MA

AGENCY: Federal Communications Commission.

ACTION: Final rule.

SUMMARY: The Audio Division, at the request of Brewster Broadcasting Co. in its counterproposal to a petition for rulemaking by John Garabedian, allots Channel 254A at East Harwich, Massachusetts, as the community's first local FM service. Channel 254A can be allotted to East Harwich, Massachusetts, in compliance with the Commission's minimum distance separation requirements with a site restriction of 5.7 km (3.5 miles) southeast of East Harwich. The coordinates for Channel 254A at East Harwich, Massachusetts, are 41-40-33 North Latitude and 69-58-03 West Longitude.

DATES: Effective April 4, 2005.

FOR FURTHER INFORMATION CONTACT: Deborah Dupont, Media Bureau, (202) 418-2180.

SUPPLEMENTARY INFORMATION: This is a synopsis of the Commission's Report and Order, MB Docket No. 02-72, adopted February 16, 2005, and released February 18, 2005. The full text of this Commission decision is available for inspection and copying during normal business hours in the FCC Information Center, Portals II, 445 12th Street, SW, Room CY-A257, Washington, DC 20554. The complete text of this decision also may be purchased from the Commission's duplicating contractor, Best Copy and Printing, Inc., 445 12th Street, SW, Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Massachusetts, is amended by adding East Harwich, Channel 254A.

Federal Communications Commission.
John A. Karousos,
Assistant Chief, Audio Division, Media Bureau.

[FR Doc. 05-4346 Filed 3-4-05; 8:45 am]

BILLING CODE 6712-01-P